DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the program in general, contact Lisa L. Reyes, Acting Clerk, United States Court of Federal Claims, 717 Madison Place NW., Washington, DC 20005, (202) 357-6400. For information on HRSA's role in the program, contact the Director, National Vaccine Injury Compensation Program, 5600 Fishers Lane, Rm. 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This Table lists for each covered childhood vaccine the conditions that may lead to compensation and, for each condition, the time period for occurrence of the first symptom or manifestation of onset or of significant aggravation after vaccine administration. Compensation may also be awarded for conditions not listed in the table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2017, through June 30, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the table, or

b. “[S]ustained, or had significantly aggravated, any illness, disability, injury, or condition set forth in the Vaccine Injury Table the first symptom or manifestation of the onset or significant aggravation of which did not occur within the time period set forth in the table but which was caused by a vaccine” referred to in the table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: July 26, 2017.
George Sigounas,
Administrator.

List of Petitions Filed

1. Sean Oberheim, Littleton, Colorado, Court of Federal Claims No: 17-0725V

2. Alexander M. Beiting, Omaha, Nebraska, Court of Federal Claims No: 17-0726V

3. Ling Chen, Rosedale, Maryland, Court of Federal Claims No: 17-0728V

4. Gerardo Cabello, Los Ranchos de Albuquerque, New Mexico, Court of Federal Claims No: 17-0730V

5. Thomas Hettenbach, Orlando, Florida, Court of Federal Claims No: 17-0731V

6. Alan Peterson, La Crosse, Wisconsin, Court of Federal Claims No: 17-0732V

7. Christopher Hill, San Diego, California, Court of Federal Claims No: 17-0734V

8. Kebba Dampha, East Lansing, Michigan, Court of Federal Claims No: 17-0735V

9. Carolyn Orrell, Charlotte, North Carolina, Court of Federal Claims No: 17-0736V

10. Rachel Knura on behalf of Kole Knura, Munster, Indiana, Court of Federal Claims No: 17-0737V

11. Jennifer Kreger, Zimmerman, Minnesota, Court of Federal Claims No: 17-0742V

12. Michael J. Gordon on behalf of J.M.G., Santa Monica, California, Court of Federal Claims No: 17-0743V

13. Cafilliar Perdue, Jackson, Mississippi, Court of Federal Claims No: 17-0746V

14. Jasmin A. Lopez, Rockville, Connecticut, Court of Federal Claims No: 17-0748V

15. Ann E. Kleva, Notre Dame, Indiana, Court of Federal Claims No: 17-0749V

16. Penny Lynn Burke, North Bend, Washington, Court of Federal Claims No: 17-0750V

17. Katherine Tierney and Kevin Tierney on behalf of C. T., Brighton, Michigan, Court of Federal Claims No: 17-0751V

18. Selena Despotovic, St. Petersburg, Florida, Court of Federal Claims No: 17-0752V

19. Agnes Johns, St. Petersburg, Florida, Court of Federal Claims No: 17-0753V

20. Ronald Devingo, Toms River, New Jersey, Court of Federal Claims No: 17-0754V

21. Joseph Baldwin, Franklin, Tennessee, Court of Federal Claims No: 17-0756V

22. Tracy Middlebrooks, Scottsboro, Alabama, Court of Federal Claims No: 17-0757V

23. Stephen Waldorf, Washington, District of Columbia, Court of Federal Claims No: 17-0758V

24. Nicholas Gallelli, East Orange, New Jersey, Court of Federal Claims No: 17-0759V

25. Dorothy Rowan, Boise, Idaho, Court of Federal Claims No: 17-0760V

26. Lisa Knapp, Wichita Falls, Texas, Court of Federal Claims No: 17-0764V

27. Barbara Wellen, Port Orange, Florida, Court of Federal Claims No: 17-0767V

28. Mark Simmer, Washington, District of Columbia, Court of Federal Claims No: 17-0769V

29. Hedy Glover, St. Louis, Missouri, Court of Federal Claims No: 17-0770V

30. Tammy L. Douse, Kettle Falls, Washington, Court of Federal Claims No: 17-0771V

31. Rebecca DeRitis on behalf of B.D., New York, New York, Court of Federal Claims No: 17-0772V

32. Carlos Orduz, Yonkers, New York, Court of Federal Claims No: 17-0773V

33. Amy NMN Hayes on behalf of A. T. A., Angier, North Carolina, Court of Federal Claims No: 17-0774V

34. Richard Scott, Indianapolis, Indiana, Court of Federal Claims No: 17-0775V

35. Diane Fedorchak, Washington, District of Columbia, Court of Federal Claims No: 17-0776V

36. Constance J. Sabins, Harrisburg, North Carolina, Court of Federal Claims No: 17-0778V

37. Jerry Sanders, Ozark, Alabama, Court of Federal Claims No: 17-0779V

38. Robert Sauer, Pennington, New Jersey, Court of Federal Claims No: 17-0780V

39. Pamela Kirby, Washington, District of Columbia, Court of Federal Claims No: 17-0782V

40. Dionni De La Cruz, Washington, District of Columbia, Court of Federal Claims No: 17-0783V

41. Ashley Potts, Jacksonville, Florida, Court of Federal Claims No: 17-0784V

42. John Colapietro, Cocoa Beach, Florida, Court of Federal Claims No: 17-0785V

43. Valisha Carrington, San Antonio, Texas, Court of Federal Claims No: 17-0786V

44. Kristi Arrant, Lake Charles, Louisiana, Court of Federal Claims No: 17-0788V

45. Jason Kahn, West Lafayette, Indiana, Court of Federal Claims No: 17-0789V

46. Anna Ballard, Macon, Georgia, Court of Federal Claims No: 17-0790V

47. Karen Williams, Winfield, Alabama, Court of Federal Claims No: 17-0791V

48. Laura Kalajdzic and Bojan Kalajdzic on behalf of A. K., Aurora, Colorado, Court of Federal Claims No: 17-0792V

49. Kathleen Knox, Lancaster, South Carolina, Court of Federal Claims No: 17-0794V

50. Deloris Harrell, Montgomery, Alabama, Court of Federal Claims No: 17-0795V

51. Leo Cahill on behalf of Valena Yvonne Cahill, Washington, District of Columbia, Court of Federal Claims No: 17-0796V

52. Samuel Hutchens, Scottsdale, Arizona, Court of Federal Claims No: 17-0797V

53. Ashok Pahwa, Rye Brook, New York, Court of Federal Claims No: 17-0799V

54. Daron Nelson, Layton, Utah, Court of Federal Claims No: 17-0800V

55. Jodie L. Paschall-Majerus, Vancouver, Washington, Court of Federal Claims No: 17-0801V

56. Charlotte Porch, Houston, Texas, Court of Federal Claims No: 17-0802V

57. Charles Randall, Hillsdale, Michigan, Court of Federal Claims No: 17-0803V

58. Julia Hayes, West Chester, Pennsylvania, Court of Federal Claims No: 17-0804V

59. Suzanne Dyer, Little River, South Carolina, Court of Federal Claims No: 17-0805V

60. William Fuller, Summerville, South Carolina, Court of Federal Claims No: 17-0806V

61. Teresa Fowler, Boston, Massachusetts, Court of Federal Claims No: 17-0809V

62. Alyssa Hilt, Dresher, Pennsylvania, Court of Federal Claims No: 17-0810V

63. Catherine Fry, Greenbelt, Maryland, Court of Federal Claims No: 17-0811V

64. Lynette Pestel, Springfield, Illinois, Court of Federal Claims No: 17-0814V

65. Shirley Garrett, Pidgeon Forge, Tennessee, Court of Federal Claims No: 17-0815V

66. Lilia Tellez-Garcia, Dresher, Pennsylvania, Court of Federal Claims No: 17-0816V

67. Christopher O'Hern, Washington, District of Columbia, Court of Federal Claims No: 17-0818V

68. Cherlanda Sheppard, Detroit, Michigan, Court of Federal Claims No: 17-0819V

69. Heidi Theis, Ephrata, Pennsylvania, Court of Federal Claims No: 17-0820V

70. Karen Hopseker, Rochester, New York, Court of Federal Claims No: 17-0821V

71. Felica Thomas on behalf of Zaire Corvell Thomas, Deceased, Madison, Wisconsin, Court of Federal Claims No: 17-0822V

72. Deanna Williams, San Jose, California, Court of Federal Claims No: 17-0830V

73. Deborah Forbes, Arlington, Texas, Court of Federal Claims No: 17-0832V

74. Audrey Rebollo, Norristown, Pennsylvania, Court of Federal Claims No: 17-0833V

75. Kendra Calvert on behalf of S. C., Fort Worth, Texas, Court of Federal Claims No: 17-0834V

76. Brent Langley, Mechanicsburg, Pennsylvania, Court of Federal Claims No: 17-0837V

77. Judy Echols, Birmingham, Alabama, Court of Federal Claims No: 17-0838V

78. Connie Osborn, Washington, District of Columbia, Court of Federal Claims No: 17-0839V

79. Patricia M. Browne, Rincon, Georgia, Court of Federal Claims No: 17-0840V

80. Timothy McClusky, Boston, Massachusetts, Court of Federal Claims No: 17-0841V

81. Michael Goodin, Portsmouth, New Hampshire, Court of Federal Claims No: 17-0844V

82. Bambi Pascuzzi, Trafford, Pennsylvania, Court of Federal Claims No: 17-0846V

83. Zachary Childree and Megan Akers on behalf of B. C., Milton, Florida, Court of Federal Claims No: 17-0848V

84. Patricia Dillon, San Francisco, Alaska, Court of Federal Claims No: 17-0849V

85. Joshua Yeargin and Sheri Yeargin on behalf of A Y, Washington, District of Columbia, Court of Federal Claims No: 17-0850V

86. Jeffrey Levine and Toni Ann Levine on behalf of A. L., Clifton, New Jersey, Court of Federal Claims No: 17-0851V

87. Roseanna Johnson, Little Rock, Arkansas, Court of Federal Claims No: 17-0852V

88. Chelsie Decker, Indianapolis, Indiana, Court of Federal Claims No: 17-0853V

89. Reynaldo Belmonte, Jr., North Bend, Washington, Court of Federal Claims No: 17-0856V

90. Erwin Mansilla, Gardena, California, Court of Federal Claims No: 17-0861V

91. Nicole Carion, Washington, District of Columbia, Court of Federal Claims No: 17-0862V

92. Ashley Scott, Washington, District of Columbia, Court of Federal Claims No: 17-0863V

93. Lindsey Kueng, Washington, District of Columbia, Court of Federal Claims No: 17-0864V

94. Billy R. Dehart, Leesville, Louisiana, Court of Federal Claims No: 17-0870V

95. Katie Wiggins, Washington, District of Columbia, Court of Federal Claims No: 17-0871V

96. Stephanie Easterling on behalf of G. E., New York, New York, Court of Federal Claims No: 17-0872V

97. Benita Goldstein on behalf of Stewart G. Goldstein, Deceased, West Palm Beach, Florida, Court of Federal Claims No: 17-0873V

98. Thomas Zerwas, Elk River, Minnesota, Court of Federal Claims No: 17-0874V

99. Brandy McCoy on behalf of E. M., Mooresville, North Carolina, Court of Federal Claims No: 17-0875V

100. Virginia Lara, Choctaw, Oklahoma, Court of Federal Claims No: 17-0880V

101. Jodi Eads, Decatur, Indiana, Court of Federal Claims No: 17-0881V

102. Deanne Doane, Houston, Texas, Court of Federal Claims No: 17-0882V

103. Gladys Highfield, Dongola, Illinois, Court of Federal Claims No: 17-0883V

104. Martha Tapia, Rialto, California, Court of Federal Claims No: 17-0884V

105. Carroll Spicer, Eugene, Oregon, Court of Federal Claims No: 17-0885V

106. Christina Nelson, Manhattan, Kansas, Court of Federal Claims No: 17-0886V

107. Michael L. Winters, Knoxville, Tennessee, Court of Federal Claims No: 17-0887V

108. Juanita Cruey, Kenosha, Wisconsin, Court of Federal Claims No: 17-0888V

109. Jackie Dwayne Damron on behalf of Jack Damron, Deceased, Hendersonville, Tennessee, Court of Federal Claims No: 17-0890V

110. Rochelle Belt, Philadelphia, Pennsylvania, Court of Federal Claims No: 17-0891V

111. Barbara Fantell and Scott Fantell on behalf of H. F., Cape Coral, Florida, Court of Federal Claims No: 17-0892V

112. Katie R. Peterson, Salt Lake City, Utah, Court of Federal Claims No: 17-0893V

113. Derek Molina, Mt. Pleasant, Texas, Court of Federal Claims No: 17-0895V

114. Destiny Duncan, Bluffton, South Carolina, Court of Federal Claims No: 17-0896V

115. Timothy Woods, Anamosa, Iowa, Court of Federal Claims No: 17-0897V

[FR Doc. 2017-16584 Filed 8-4-17; 8:45 am]

BILLING CODE 4165-15-P